DEPARTMENT OF HEALTH AND HUMAN SERVICES

Centers for Disease Control and Prevention

[30 DAY-34-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: 2004 National Health Interview Survey: 2004 Basic Module with Topical Module, (0920-0214)—Revision—National Center for Health Statistics (NCHS), Centers for Disease Control and Prevention (CDC).

The annual National Health Interview Survey (NHIS) is a basic source of general statistics on the health of the U.S. population. In accordance with the 1995 initiative to increase the integration of surveys within the Department of Health and Human Services, respondents to the NHIS serve as the sampling frame for the Medical Expenditure Panel Survey. This survey is conducted by the Agency for Healthcare Research and Quality. The NHIS has long been used by government, university, and private researchers to evaluate both general health and specific issues, such as cancer, AIDS, and childhood immunizations. Journalists use its data to inform the general public. It will continue to be a leading source of data for the Congressionally mandated “Health US” and related publications, as well as the single most important source of statistics to track progress toward the National Health Promotion and Disease Prevention Objectives, “Healthy People 2010.”

Because of survey integration and changes in the health and health care of the U.S. population, demands on the NHIS have changed and increased, leading to a major redesign of the annual core questionnaire, or Basic Module, and a shift from paper questionnaires to computer assisted personal interviews (CAPI). These redesigned elements were partially implemented in 1996 and fully implemented in 1997. This clearance is for the eighth full year of data collection using the core questionnaire on CAPI, for the implementation of a supplement on children's mental health, and for a software field test to evaluate a switch from CASES software to Blaise software. The field test for the new software is scheduled for June 2003. The data collection for the full survey is planned for January-December 2004, and will result in publication of new national estimates of health statistics, release of public use micro data files, and a sampling frame for other integrated surveys. The total annual burden for this data collection is 39,870 hours.

Questionnaire (respondents) | Number of respondents | Number of responses/respondent | Average burden per response (in hrs.)
Family Core (Adult Family Member) | 39,000 | 1 | 21/60
Adult Core and Topical Module (sample adult) | 32,000 | 1 | 42/60
Child Core and Topical Module (adult family member) | 13,000 | 1 | 15/60
Re-interview Survey | 3,250 | 1 | 5/60
Software and Systems Field Test | 300 | 1 | 60/60

Dated: March 27, 2003.
Thomas Bartenfeld,
Acting Associate Director for Policy, Planning and Evaluation, Centers for Disease Control and Prevention.

[FR Doc. 03-8045 Filed 4-2-03; 8:45 am]

BILLING CODE 4163-18-P